DEPARTMENT OF THE INTERIOR

National Park Service

[NPS-WASO-NRNHL-DTS#-35709; PPWOCRADI0, PCU00RP14.R50000]

National Register of Historic Places; Notification of Pending Nominations and Related Actions

AGENCY: National Park Service, Interior.

ACTION: Notice.

SUMMARY: The National Park Service is soliciting electronic comments on the significance of properties nominated before April 15, 2023, for listing or related actions in the National Register of Historic Places.

DATES: Comments should be submitted electronically by May 9, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 15, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ARKANSAS

Garland County

Forrest Apartments, 204 Exchange St., Hot Springs, SG100008989

Sebastian County

Vinita Cemetery, Jenson Rd. approx. 925 ft. west of Hooper St., Hackett, SG100008993

NEW YORK

Steuben County

Prattsburgh Commercial Historic District, 10-28 West Main St. and 16 Federman Ln., Prattsburgh, SG100008996

OHIO

Tuscarawas County

Warther Family Home and Museum, 331 Karl Ave., Dover, SG100009003

SOUTH CAROLINA

Calhoun County

Culclasure-Geiger Farmstead, 1250 Great Circle Dr., St. Matthews vicinity, SG100008999

Clarendon County

Scott's Branch High School, 1102 4th St., Summerton vicinity, SG100008990

York County

York Graded School, 212 East Jefferson St., York, SG100008988

WISCONSIN

Milwaukee County

Underwriters Exchange Building, 828 North Broadway, Milwaukee, SG100008986

Milwaukee Protestant Home for the Aged, 2449 North Downer Ave., Milwaukee, SG100008987

Waukesha County

Melster, John and Florence, House, 316 Oxford Rd., Waukesha, SG100009002

Additional documentation has been received for the following resources:

NEW YORK

Orange County

Crabtree, John A., House (Additional Documentation), 15 Factory St., Montgomery, AD98001001

TENNESSEE

Grundy County

Firescald Creek Stone Arch Bridge (Additional Documentation) (Grundy County MRA), Northcutts Cove Rd. over Firescald Creek, Altamont vicinity, AD87000522

Hamblen County

Rose School (Additional Documentation), Jackson and West 2nd North Sts., Morristown, AD76001778

Sumner County

Trousdale Place, 183 West Main St., Gallatin, AD75001793

Nomination submitted by Federal Preservation Officer:

The State Historic Preservation Officer reviewed the following nomination and responded to the Federal Preservation Officer within 45 days of receipt of the nomination and supports listing the property in the National Register of Historic Places.

WASHINGTON

Clallam County

Slip Point Light Station, (Light Stations of the United States MPS), Address Restricted, Clallam Bay vicinity, MP100009001

Authority: Section 60.13 of 36 CFR part 60.

Dated: April 19, 2023.
Sherry A. Frear,
Chief, National Register of Historic Places/National Historic Landmarks Program.

[FR Doc. 2023-08572 Filed 4-21-23; 8:45 am]

BILLING CODE 4312-52-P